DEPARTMENT OF COMMERCE

Foreign-Trade Zones Board

[Order No. 1842]

Reorganization of Foreign-Trade Zone 18 Under Alternative Site Framework; San Jose, CA

Pursuant to its authority under the Foreign-Trade Zones Act of June 18, 1934, as amended (19 U.S.C. 81a-81u), the Foreign-Trade Zones Board (the Board) adopts the following Order:

Whereas, the Board adopted the alternative site framework (ASF) (74 FR 1170, 01/12/2009; correction 74 FR 3987, 01/22/2009; 75 FR 71069-71070, 11/22/2010) as an option for the establishment or reorganization of general-purpose zones;

Whereas, the City of San Jose, California, grantee of Foreign-Trade Zone 18, submitted an application to the Board (FTZ Docket 28-2012, filed 04/04/2012) for authority to reorganize under the ASF with a service area of San Jose, California, within the San Jose U.S. Customs and Border Protection port of entry, and FTZ 18's existing Site 1 would be categorized as a magnet site;

Whereas, notice inviting public comment was given in the Federal Register (77 FR 21527, 04/10/2012) and the application has been processed pursuant to the FTZ Act and the Board's regulations; and,

Whereas, the Board adopts the findings and recommendations of the examiner's report, and finds that the requirements of the FTZ Act and the Board's regulations are satisfied, and that the proposal is in the public interest;

Now, therefore, the Board hereby orders:

The application to reorganize FTZ 18 under the alternative site framework is approved, subject to the FTZ Act and the Board's regulations, including Section 400.13, to the Board's standard 2,000-acre activation limit for the overall general-purpose zone project, and to a five-year ASF sunset provision for magnet sites that would terminate authority for Site 1 if not activated by July 31, 2017.

Signed at Washington, DC, this 23 day of July 2012.
Paul Piquado,
Assistant Secretary of Commerce for Import Administration, Alternate Chairman, Foreign-Trade Zones Board.

[FR Doc. 2012-18673 Filed 7-30-12; 8:45 am]

BILLING CODE 3510-DS-P